COMMITTEE FOR PURCHASE FROM PEOPLE WHO ARE BLIND OR SEVERELY DISABLED

Procurement List; Proposed Additions and Deletions

AGENCY: Committee for Purchase from People Who Are Blind or Severely Disabled.

ACTION: Proposed Additions to and Deletions from Procurement List.

SUMMARY: The Committee is proposing to add to the Procurement List products and services to be furnished by nonprofit agencies employing persons who are blind or have other severe disabilities, and to delete products previously furnished by such agencies.

Comments Must Be Received on or Before: June 11, 2006.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Mary-Carolyn Bell, Telephone: (703) 603-7740, Fax: (703) 603-0655, or e-mail mbell@jwod.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Product/NSN: Hydration System Carrier Assembly (MOLLE Components) (NTE 40,000 Units)

8465-01-524-8362—Universal Camouflage

8465-01-519-2306—Woodland Camouflage

8465-01-519-2353—Desert Camouflage

NPA: Lions Services, Inc., Charlotte, North Carolina

Contracting Activity: Defense Supply Center Philadelphia, Philadelphia, Pennsylvania

Product/NSN: Keeper w/Slide Adaptor Assembly (MOLLE Components)

8465-01-524-7253—Universal Camouflage

8465-01-491-7443—Desert Camouflage

8465-01-465-2062—Woodland Camouflage

NPA: Lions Services, Inc., Charlotte, North Carolina

Contracting Activity: Defense Supply Center Philadelphia, Philadelphia, Pennsylvania

Services

Service Type/Location: Custodial & Grounds Maintenance Immigration and Customs Enforcement Calle Gonzalez Clemente #30, Mayaguez, Puerto Rico

Louis Munoz Marin International Airport, 3rd Floor Carolena, Puerto Rico

Penthouse Floor and Parking Floor 800 Ponce de Leon Avenue, San Juan, Puerto Rico

NPA: The Corporate Source, Inc., New York, New York Contracting Activity: DHS, Immigration and Customs Enforcement San Juan, Puerto Rico

Service Type/Location: Vehicle Maintenance Services Building 386 Dickman Avenue, Fort Riley, Kansas

NPA: Skookum Educational Programs, Port Townsend, Washington

Contracting Activity: GSA, Fleet Management Division, Kansas City, Missouri

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

Product/NSN: Binder, Loose-leaf

7510-00-285-1765—Binder, Loose-leaf

NPA: ForSight Vision, York, Pennsylvania

Contracting Activity: Office Supplies & Paper Products Acquisition Center, New York, NY

Product/NSN: Holder, Toilet Paper

4510-00-364-3035—Holder, Toilet Paper

NPA: Jewish Vocational Services, Inc., Dunwoody, Georgia

Contracting Activity: Defense Supply Center Philadelphia, Philadelphia, Pennsylvania

G. John Heyer,
General Counsel.

[FR Doc. E6-7265 Filed 5-11-06; 8:45 am]

BILLING CODE 6353-01-P